DEPARTMENT OF HEALTH AND HUMAN SERVICES

Office of the Secretary

Statement of Organization, Functions, and Delegations of Authority; Office of the National Coordinator for Health Information Technology

ACTION: Notice.

SUMMARY: The Office of the National Coordinator for Health Information Technology has reorganized one of its functions in order to more effectively meet the mission outlined by The Health Information Technology for Economic and Clinical Health (HITECH) Act, part of the American Recovery and Reinvestment Act of 2009 (ARRA). The reorganization affects two of the Director-level offices: The Office of the Chief Scientist and the Office of Economic Analysis and Modeling.

FOR FURTHER INFORMATION CONTACT: Sam Shellenberger, Office of the National Coordinator, Office of the Secretary, 200 Independence Ave., NW., Washington, DC 20201, 202-690-7151.

Part A, Office of the Secretary, Statement of Organization, Functions, and Delegations of Authority for the Department of Health and Human Services, Chapter AR, Office of the National Coordinator for Health Information Technology (ONC), as last amended at 74 FR 62785-62786, dated December 1, 2009, and as corrected at 75 FR 49494, dated August 13, 2010, is amended as follows:

I. Under Part A, Chapter AR, Office of the National Coordinator for Health Information Technology, Section AR.20 Functions, delete Chapter B in its entirety and replace with the following:

B. Office of Economic Analysis, Evaluation and Modeling (ARB): The Office of Economic Analysis, Evaluation and Modeling works with and reports directly to the National Coordinator. The Office: (1) Provides advanced policy analysis of health information technology strategies and policies to the National Coordinator; (2) applies research methodologies to perform evaluation studies of health information technology grant programs; and, (3) applies advanced mathematical or quantitative modeling to the U.S. health care system for simulating the microeconomic and macroeconomic effects of investing in health information technology. Such modeling will be used with varying public policy scenarios to perform advanced health care policy analysis for requirements of the Recovery Act, such as reductions in health care costs resulting from adoption and use of health information technology.

The results of these analyses provided to the National Coordinator will inform strategies to enhance the use of health information technology in improving the quality and efficiency of health care and improving public health.

II. Under Part A, Chapter AR, Office of the National Coordinator for Health Information Technology, Section AR.20 Functions, Chapter C, remove the following language from the Office of the Chief Scientist (ARC) and renumber the remaining items in the paragraph accordingly:

“(1) Applying research methodologies to perform evaluation studies of health information technology grant programs;”

III. Delegation of Authority. Pending further delegation, directives or orders by the Secretary or by the National Coordinator for Health Information Technology, all delegations and redelegations of authority made to officials and employees of affected organizational components will continue in them or their successors pending further redelegations, provided they are consistent with this reorganization.

Authority: 44 U.S.C. 3101.

Dated: January 31, 2011.
J. Holland, Jr.,
Assistant Secretary for Administration.

[FR Doc. 2011-2703 Filed 2-7-11; 8:45 am]

BILLING CODE P